DEPARTMENT OF ENERGY

Federal Energy Regulatory Commission

[Project No. 2101-074—California]

Sacramento Municipal Utility District; Notice of Designation of Certain Commission Personnel as Non-Decisional

September 30, 2004.

Commission staff member Michael Henry (Office of Energy Projects; 503-552-2762; mike.henry@ferc.gov) is assigned to help resolve environmental and other issues associated with the development of a comprehensive settlement agreement for the South Fork American River Project. The parties involved in the settlement process wish to complete a comprehensive settlement agreement and file an offer of settlement before the license application is due in July 2005.

As non-decisional staff, Mr. Henry will not participate in an advisory capacity in the Commission's review of any offer of settlement or settlement agreement, or deliberations concerning the disposition of the relicense application once it is filed for the project.

Different Commission advisory staff will be assigned to review any offer of settlement or settlement agreement, and process the relicense application, including providing advice to the Commission with respect to the agreement and application. Non-decisional staff and advisory staff will be prohibited from communicating with one another concerning any filed settlement and relicense application for the project.

Magalie R. Salas,
Secretary.

[FR Doc. E4-2504 Filed 10-5-04; 8:45 am]

BILLING CODE 6717-01-P